DEPARTMENT OF COMMERCE

National Oceanic and Atmospheric Administration

[I.D. 051806B]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet June 11-16, 2006. The Council meeting will begin on Tuesday, June 13, at 8 a.m., reconvening each day through Friday, June 16. All meetings are open to the public, except a closed session will be held from 8 a.m. until 9 a.m. on Tuesday, June 13 to address litigation and personnel matters. The Council will meet as late as necessary each day to complete its scheduled business.

ADDRESSES: The meetings will be held at the Crowne Plaza Hotel, 1221 Chess Drive, Foster City, CA 94404; telephone: (650) 570-5700.

Council address: Pacific Fishery Management Council, 7700 NE Ambassador Place, Suite 200, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Administrative Matters

1. Future Council Meeting Agenda Planning

2. Approval of Council Meeting Minutes

3. Legislative Matters

4. Fiscal Matters

5. Appointments to Advisory Bodies, Standing Committees, and Other Forum, Including any Necessary Changes to Council Operating Procedures

6. Council Three-Meeting Outlook, Draft September 2006 Council Meeting Agenda, and Workload Priorities

C. Coastal Pelagic Species Management

1. Pacific Mackerel Harvest Guideline for 2006-07 Season

2. NMFS Report

D. Habitat

1. Current Habitat Issues

E. Highly Migratory Species Management

1. Changes to Routine Management Measures for 2007-08 Season

2. Exempted Fishing Permits for 2007-08 Season

3. Albacore Management

F. Groundfish Management

1. NMFS Report

2. Tentative Adoption of 2007-08 Groundfish Fishery Specifications/Management Measures and Amendment 16-4

3. Trawl Individual Quota Analysis - Review of Stage I Document

4. Consideration of Inseason Adjustments

5. Council Clarification of Tentative Adoption of 2007-08 Groundfish Fishery Specifications/Management Measures and Amendment 16-4 (if necessary)

6. Final Adoption of 2007-08 Groundfish Fishery Specifications/Management Measures and Amendment 16-4

G. Salmon Management

1. Fishery Regulation Assessment Model

2. Fishery Management Plan Amendment 15 (de minimis fisheries)

3. Application of Genetic Stock Identification in Ocean Salmon Fisheries

Schedule of Ancillary Meetings

SUNDAY, June 11, 2006

Groundfish Management Team — 1 p.m.

Trawl Individual Quota Committee — 1 p.m.

MONDAY, June 12, 2006

Council Secretariat — 8 a.m.

Groundfish Advisory Subpanel — 8 a.m.

Groundfish Management Team — 8 a.m.

Highly Migratory Species Advisory Subpanel — 8 a.m.

Scientific and Statistical Committee — 8 a.m.

Habitat Committee — 9 a.m.

Budget Committee — 10:30 a.m.

Legislative Committee — 1 p.m.

Enforcement Consultants — 4:30 p.m.

Chair's Reception — 6 p.m.

TUESDAY, June 13, 2006

Council Secretariat — 7 a.m.

California State Delegation — 7 a.m.

Oregon State Delegation — 7 a.m.

Washington State Delegation — 7 a.m.

Groundfish Advisory Subpanel — 8 a.m.

Groundfish Management Team — 8 a.m.

Highly Migratory Species Advisory Subpanel — 8 a.m.

Scientific and Statistical Committee — 8 a.m.

Enforcement Consultants — As necessary

WEDNESDAY, June 14, 2006

Council Secretariat — 7 a.m.

California State Delegation — 7 a.m.

Oregon State Delegation — 7 a.m.

Washington State Delegation — 7 a.m.

Groundfish Advisory Subpanel — 8 a.m.

Groundfish Management Team — 8 a.m.

Salmon Amendment Committee — 8 a.m.

Enforcement Consultants — As necessary

THURSDAY, June 15, 2006

Council Secretariat — 7 a.m.

California State Delegation — 7 a.m.

Oregon State Delegation — 7 a.m.

Washington State Delegation — 7 a.m.

Groundfish Advisory Subpanel — 8 a.m.

Groundfish Management Team — 8 a.m.

Salmon Advisory Subpanel — 8 a.m.

Salmon Technical Team — 8 a.m.

Enforcement Consultants — As necessary

FRIDAY, June 16, 2006

Council Secretariat — 7 a.m.

California State Delegation — 7 a.m.

Oregon State Delegation — 7 a.m.

Washington State Delegation — 7 a.m.

Enforcement Consultants — As necessary

Groundfish Advisory Subpanel — As necessary

Groundfish Management Team — As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: May 18, 2006.
Tracey L. Thompson,
Acting Director, Office of Sustainable Fisheries, National marine Fisheries Service.

[FR Doc. E6-7875 Filed 5-23-06; 8:45 am]

BILLING CODE 3510-22-S